DEPARTMENT OF JUSTICE

Notice of Lodging of Consent Decree Under the Comprehensive Environmental Response, Compensation, and Liability Act

In accordance with Departmental policy, 28 CFR 50.7, and Section 122(d)(2) of the Comprehensive Environmental Response, Compensation, and Liability Act (“CERCLA”), 42 U.S.C. 9622(d)(2), notice is hereby given that on September 1, 2005, a proposed Remedial Design/Remedial Action Consent Decree (“Decree”) in United States v. The Oeser Company, Civil Action No. C05-1491-JCC (W.D. Washington) was lodged with the United States District Court for the Western District of Washington.

The Decree resolves claims of the United States against the Oeser Company (“Oeser”) under Sections 106 and 107(a) of CERCLA, 42 U.S.C. 9606 and 9607(a), for injunctive relief, civil penalties, and recovery of response costs incurred and to be incurred by the United States Environmental Protection Agency (“EPA”) at the Oeser Company Superfund Site located in Whatcom County, Bellingham, Washington (“Site”). The Decree requires Oeser to implement EPA's selected remedial action for the Site, pay EPA's future oversight costs at the Site, and pay at least $8.6 million in reimbursement of EPA's past response costs. The remedial action is expected to cost about $3.8 million, but costs could go as high as $6 million. To secure the funds for the cleanup, Oeser will deposit approximately $6 million into two trust accounts that will be used first to pay for the cleanup and secondly, if any funds remain, to provide additional reimbursement of EPA's past costs. In addition, the company agrees to contribute $500,000 to a trust account held by the City of Bellingham for performance of a cleanup of Little Squalicum Creek.

The Department of Justice will receive for a period of thirty (30) days from the date of this publication comments relating to the Decree. Comments should be addressed to the Assistant Attorney General, Environment and Natural Resources Division, P.O. Box 7611, U.S. Department of Justice, Washington, DC 20044-7611, and should refer to United States v. The Oeser Company, Civil Action No. C05-1491-JCC (W.D. Washington), D.J. Ref. 90-11-2-07535.

The Decree may be examined at the Office of the United States Attorney for the Western District of Washington, 700 Stewart Street, Suite 5220, Seattle, Washington 98101-1271, and at U.S. EPA Region X, 1220 Sixth Avenue, Seattle, Washington 98101. During the public comment period, the Decree, may also be examined on the following Department of Justice Web site, http://www.usdoj.gov/enrd/open.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $79.00 (25 cents per page reproduction cost) payable to the U.S. Treasury. In requesting a copy without the appendices, please enclose a check in the amount of $18.75 (25 cents per page reproduction cost) payable to the U.S. Treasury.

Robert E. Maher, Jr.,
Assistant Chief, Environmental Enforcement Section, Environment and Natural Resources Division.

[FR Doc. 05-18295 Filed 9-14-05; 8:45 am]

BILLING CODE 4410-15-M